FEDERAL COMMUNICATIONS COMMISSION

[Report No. 2678]

Petitions for Reconsideration and Clarification of Action in Rulemaking Proceeding

October 20, 2004.

Petitions for Reconsideration and Clarification have been filed in the Commission's Rulemaking proceedings listed in this Public Notice and published pursuant to 47 CFR 1.429(e). The full text of this document is available for viewing and copying in Room CY-B402, 445 12th Street, SW., Washington, DC or may be purchased from the Commission's copy contractor, Best Copy and Printing, Inc. (BCPI) (1-800-378-3160). Oppositions to these petitions must be filed by November 12, 2004. See Section 1.4(b)(1) of the Commission's rules (47 CFR 1.4(b)(1)). Replies to an opposition must be filed within 10 days after the time for filing oppositions have expired.

Subject: In the Matter of Review of the Section 251 Unbundling Obligations of Incumbent Local Exchange Carriers (CC Docket No. 01-338). Implementation of the Local Competition Provisions of the Telecommunications Act of 1996 (CC Docket No. 96-98). Deployment of Wireline Services Offering Advanced Telecommunications Capability (CC Docket No. 98-147).

Number of Petitions Filed: 1.

Subject: In the Matter of Unbundled Access to Network Elements (CC Docket No. 04-313). Review of the Section 251 Unbundling Obligations of the Incumbent Local Exchange Carriers (CC Docket No. 01-338).

Number of Petitions Filed: 1.

Marlene H. Dortch,
Secretary.

[FR Doc. 04-24036 Filed 10-26-04; 8:45 am]

BILLING CODE 6712-01-M